DEPARTMENT OF COMMERCE

National Oceanic and Atmospheric Administration

RIN XB91

North Pacific Fishery Management Council; Notice of Public Meeting

AGENCY: National Marine Fisheries Service (NMFS), National Oceanic and Atmospheric Administration (NOAA), Commerce.

ACTION: Notice.

SUMMARY: The North Pacific Fishery Management Council (Council) Salmon Bycatch Workgroup will meet August 29, 2007, in Anchorage, Alaska at the Hawthorn Suites, 1110 West 8th Avenue, Anchorage Alaska.

DATES: Meeting of the North Pacific Fishery Management Council's Salmon Bycatch Workgroup on August 29, 2007, from 9 a.m. to 5 p.m.

ADDRESSES: Hawthorn Suites, 1110 West 8th Avenue, Anchorage Alaska.

Council address: North Pacific Fishery Management Council, 605 W. 4th Ave., Suite 306, Anchorage, AK 99501-2252.

FOR FURTHER INFORMATION CONTACT: Diana Stram, Council staff, Phone: 907-271-2809.

SUPPLEMENTARY INFORMATION:

Agenda

Review revised alternatives per Salmon Work Group recommendations (June 2007), preliminary work on hard cap estimation and trigger cap numbers by season and annual totals, spatial evaluation of candidate closures I (A and B season), evaluation of closures and salmon hot spots using observed salmon numbers and salmon bycatch rates, evaluation of candidate closures using a proposed optimization technique and Workgroup Discussion and recommendations for Council consideration.

Special Accommodations

These meetings are physically accessible to people with disabilities. Requests for sign language interpretation or other auxiliary aids should be directed to Gail Bendixen at 907-271-2809 at least 7 working days prior to the meeting date.

Dated: August 7, 2007.
Tracey L. Thompson,
Acting Director, Office of Sustainable Fisheries, National Marine Fisheries Service.

[FR Doc. E7-15620 Filed 8-9-07; 8:45 am]

BILLING CODE 3510-22-S